DEPARTMENT OF HOMELAND SECURITY

Coast Guard

[USCG-2005-22878]

Collection of Information Under Review by Office of Management and Budget (OMB): OMB Control Numbers: 1625-0022, 1625-0079, 1625-0088, 1625-0093, and 1625-0094.

AGENCY: Coast Guard, DHS.

ACTION: Request for comments.

SUMMARY: In compliance with the Paperwork Reduction Act of 1995, the U.S. Coast Guard intends to seek the approval of OMB for the renewal of five Information Collection Requests (ICRs). The ICRs are: (1) 1625-0022, Application for Tonnage Measurement of Vessels; (2) 1625-0079, Standards of Training, Certification and Watchkeeping for Seafarers (STCW), 1995 and 1997 Amendments to the International Convention; (3)1625-0088, Voyage Planning for Tank Barge Transits in the Northeast United States; (4) 1625-0093, Facilities Transferring Oil or Hazardous Materials in Bulk—Letter of Intent and Operations Manual; and (5) 1625-0094, Ships Carrying Bulk Hazardous Liquids. Before submitting the ICRs to OMB, the Coast Guard is inviting comments on them as described below.

DATES: Comments must reach the Coast Guard on or before January 17, 2006.

ADDRESSES: To make sure that your comments and related material do not enter the docket [USCG-2005-22878] more than once, please submit them by only one of the following means:

(1) By mail to the Docket Management Facility, U.S. Department of Transportation (DOT), room PL-401, 400 Seventh Street SW, Washington, DC 20590-0001.

(2) By delivery to room PL-401 on the Plaza level of the Nassif Building, 400 Seventh Street SW, Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and material received from the public, as well as documents mentioned in this notice as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

Copies of the complete ICRs are available through this docket on the Internet at http://dms.dot.gov, and also from Commandant (CG-611), U.S. Coast Guard Headquarters, room 6106 (Attn: Mr. Arthur Requina), 2100 Second Street SW., Washington, DC 20593-0001. The telephone number is 202-267-2326.

FOR FURTHER INFORMATION CONTACT: Mr. Arthur Requina, Office of Information Management, telephone 202-267-2326, or fax 202-267-4814, for questions on these documents; or telephone Ms. Renee V. Wright, Program Manager, Docket Operations, 202-493-0402, for questions on the docket.

SUPPLEMENTARY INFORMATION:

Public Participation and Request for Comments

We encourage you to respond to this request for comments by submitting comments and related materials. We will post all comments received, without change, to http://dms.dot.gov; they will include any personal information you have provided. We have an agreement with DOT to use the Docket Management Facility. Please see the paragraph on DOT's “Privacy Act Policy” below.

Submitting comments: If you submit a comment, please include your name and address, identify the docket number [USCG-2005-22878], indicate the specific section of the document to which each comment applies, and give the reason for each comment. You may submit your comments and material by electronic means, mail, fax, or delivery to the Docket Management Facility at the address under ADDRESSES; but please submit them by only one means. If you submit them by mail or delivery, submit them in an unbound format, no larger than 8½ by 11 inches, suitable for copying and electronic filing. If you submit them by mail and would like to know that they reached the Facility, please enclose a stamped, self-addressed postcard or envelope. We will consider all comments and material received during the comment period. We may change the documents supporting this collection of information or even the underlying requirements in view of them.

Viewing comments and documents: To view comments, as well as documents mentioned in this notice as being available in the docket, go to http://dms.dot.gov at any time and conduct a simple search using the docket number. You may also visit the Docket Management Facility in room PL-401 on the Plaza level of the Nassif Building, 400 Seventh Street, SW., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or you may visit http://dms.dot.gov.

Information Collection Request

1. Title: Application for Tonnage Measurement of Vessels.

OMB Control Number: 1625-0022.

Summary: The information from this collection helps the Coast Guard to determine a vessel's tonnage. Tonnage in turn helps to determine licensing, inspection, safety requirements, and operating fees.

Need: 46 U.S.C. 14104 requires the measurement of certain vessels for tonnage. 46 CFR part 69 prescribes the rules for this measurement.

Respondents: Owners of vessels.

Frequency: On occasion.

Burden Estimate: The estimated burden has increased from 33,000 hours to 38,000 hours a year.

2. Title: Standards of Training, Certification and Watchkeeping for Seafarers (STCW), 1995 and 1997 Amendments to the International Convention.

OMB Control Number: 1625-0079.

Summary: This information is necessary to ensure compliance with the international requirements of the STCW Convention, and to maintain an acceptable level of quality in activities associated with training and assessment of merchant mariners.

Need: Title 46 U.S.C. chapter 71 authorizes the Coast Guard to issue regulation related to licensing of merchant mariners. Title 46 CFR subchapter I, subchapter B, prescribe the regulations.

Respondents: Owners and operators of vessels, training institutions, and mariners.

Frequency: On occasion.

Burden Estimate: The estimated burden has increased from 18,693 hours to 23,767 hours a year.

3. Title: Voyage Planning for Tank Barge Transits in the Northeast United States.

OMB Control Number: 1625-0088.

Summary: The information collection requirement for a voyage plan serves as a preventive measure and assists in ensuring the successful execution and completion of a voyage in the First Coast Guard District. This regulation (33 CFR 165.100), issued under authority of sec. 311 of Pub. L. 105-383, 112 Stat. 3411, and 33 U.S.C 1231, applies to primary towing vessels engaged in towing certain tank barges carrying petroleum oil in bulk as cargo.

Need: The information for a voyage plan will provide a mechanism for assisting vessels towing tank barges to identify those specific risks, potential equipment failures, or human errors that may lead to accidents.

Respondents: Owners and operators of towing vessels.

Frequency: On occasion.

Burden Estimate: The estimated burden has increased from 420 hours to 31,651 hours a year.

4. Title: Facilities Transferring Oil or Hazardous Materials in Bulk—Letter of Intent and Operations Manual.

OMB Control Number: 1625-0093.

Summary: A Letter of Intent is a notice to the Coast Guard Captain of the Port that an operator intends to operate a facility that will transfer bulk oil or hazardous materials to or from vessels. An Operations Manual (OM) is also required for this type of facility. The OM establishes procedures to follow when conducting transfers and in the event of a spill.

Need: Title 33 U.S.C. 1321 authorizes the Coast Guard to prescribe pollution prevention regulation. Title 33 CFR 154.110 prescribes the regulations related to a Letter of Intent and 33 CFR 154 subpart B prescribe the regulations related to an OM.

Respondents: Operators of facilities that transfer oil or hazardous materials in bulk.

Frequency: On occasion.

Burden Estimate: The estimated burden has increased from 27,819 hours to 47,200 hours a year.

5. Title: Ships Carrying Bulk Hazardous Liquids.

OMB Control Number: 1625-0094.

Summary: This information is needed to ensure the safe transport of bulk hazardous liquids on chemical tank vessels and to protect the environment from pollution.

Need: Title 46 U.S.C. 3703 authorizes the Coast Guard to prescribe regulations for protection of against hazards to life, property and the marine environment. Title 46 CFR part 153 prescribe regulations for the safe transport by vessel of bulk hazardous liquids.

Respondents: Owners and operators of chemical tank vessels.

Frequency: On occasion.

Burden Estimate: The estimated burden has increased from 738 hours to 1,959 hours a year.

Dated: November 7, 2005.
R.T. Hewitt,
Rear Admiral, Assistant Commandant for Command, Control, Communications Computers and Information Technology.

[FR Doc. 05-22575 Filed 11-14-05; 8:45 am]

BILLING CODE 4910-15-P